DEPARTMENT OF VETERANS AFFAIRS

Privacy Act of 1974; Computer Matching Program

AGENCY: Department of Veterans Affairs.

ACTION: Notice of Computer Match Program.

SUMMARY: Pursuant to 5 U.S.C. section 552a, the Privacy Act of 1974, as amended, and the Office of Management and Budget (OMB) Guidelines on the Conduct of Matching Programs, notice is hereby given that the Department of Veterans Affairs (VA) intends to conduct a computer matching program with the Internal Revenue Service (IRS). Data from the proposed match will be utilized to verify the unearned income (i.e. interest, dividends, etc.) of nonservice-connected veterans, and zero percent noncompensable service-connected veterans, whose eligibility for VA medical care is based on their inability to defray the cost of medical care. These veterans supply household income information that includes their spouses and dependents at the time of application for VA health care benefits.

DATES: Effective Date: This match will start no sooner than 30 days after publication in the Federal Register, unless comments dictate otherwise.

ADDRESSES: You may mail or hand-deliver written comments to: Director, Regulations Management (00REG1), 810 Vermont Avenue, NW, Washington, DC 20420, Room 1068; fax to (202)273-9026; or e-mail through http://www.Regulations.gov. All comments received will be available for public inspection in the Office of Regulation Policy and Management, Room 1063B, between the hours of 8 a.m. and 4:30 p.m., Monday through Friday (except holidays). Please call (202) 273-9515 for an appointment.

FOR FURTHER INFORMATION CONTACT: Gary M. Baker, Director, Health Eligibility Center (404) 235-1300.

SUPPLEMENTARY INFORMATION:

A. General

The Computer Matching and Privacy Protection Act of 1988 Public Law (Pub. L. 100-503), amended the Privacy Act (5 U.S.C. 552a) by describing the manner in which computer matching involving Federal agencies could be performed and adding certain protections for individuals applying for and receiving Federal benefits. Section 7201 of the Omnibus Budget Reconciliation Act of 1990, Public Law 101-508, further amended the Privacy Act regarding protections for such individuals.

The Privacy Act, as amended, regulates the use of computer matching by Federal agencies when records in a system of records are matched with other Federal, State, or local government records. It requires Federal agencies involved in computer matching programs to:

(1) Negotiate written agreements with the other agency or agencies participating in the matching programs;

(2) Obtain the approval of the matching agreement by the Data Integrity Boards (DIB) of the participating Federal agencies;

(3) Furnish detailed reports about matching programs to Congress and OMB;

(4) Notify applicants and beneficiaries that their records are subject to matching; and

(5) Verify matching findings before reducing, suspending, terminating or denying an individual's benefits or payments.

B. VHA Computer Matches Subject to the Privacy Act

We have taken action to ensure that all of VHA's computer matching programs comply with the requirements of the Privacy Act, as amended.

Approved: January 24, 2006.
Gordon H. Mansfield,
Deputy Secretary of Veterans Affairs.

[FR Doc. E6-1148 Filed 1-30-06; 8:45 am]

BILLING CODE 8320-01-P